DEPARTMENT OF STATE

[Public Notice: 10043]

In the Matter of the Amendment of the Designation of Hizballah (and Other Aliases) as a Foreign Terrorist Organization Pursuant to Section 219 of the Immigration and Nationality Act, as Amended

Based upon a review of the Administrative Record assembled pursuant to Section 219 of the Immigration and Nationality Act, as amended (8 U.S.C. 1189) (“INA”), and in consultation with the Attorney General and the Secretary of the Treasury, I have concluded that there is a sufficient factual basis to find that the following are aliases of Hizballah (and other aliases): Lebanese Hizballah, also known as Lebanese Hezbollah, also known as LH; Foreign Relations Department, also known as FRD; and External Security Organization, also known as ESO, also known as Foreign Action Unit, also known as Hizballah ESO, also known as Hizballah International, also known as Special Operations Branch, also known as External Services Organization, also known as External Security Organization of Hezbollah.

Therefore, pursuant to Section 219(b) of the INA, as amended (8 U.S.C. 1189(b), I hereby amend the designation of Hizballah as a foreign terrorist organization to include the following new aliases: Lebanese Hizballah, also known as Lebanese Hezbollah, also known as LH; Foreign Relations Department, also known as FRD; and External Security Organization, also known as ESO, also known as Foreign Action Unit, also known as Hizballah ESO, also known as Hizballah International, also known as Special Operations Branch, also known as External Services Organization, also known as External Security Organization of Hezbollah.

This determination shall be published in the Federal Register.

Dated: May 16, 2017.
Rex W. Tillerson,
Secretary of State.

[FR Doc. 2017-13325 Filed 6-22-17; 8:45 am]

BILLING CODE 4710-10-P